DEPARTMENT OF AGRICULTURE

Natural Resources Conservation Service

Denbury Onshore, LLC 24″ CO2 Delhi Pipeline, Madison and Richland Parishes, LA, and Issaquena, Warren and Yazoo Counties, MS

AGENCY: Natural Resources Conservation Service.

ACTION: Notice of Finding of No Significant Impact.

SUMMARY: Pursuant to Section 102(2)(C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for the Denbury Onshore, LLC 24″ CO2 Delhi Pipeline—Madison and Richland Parishes, Louisiana and Issaquena, Warren and Yazoo Counties, Mississippi.

FOR FURTHER INFORMATION CONTACT: Kevin D. Norton, State Conservationist, Natural Resources Conservation Service, 3737 Government Street, Alexandria, Louisiana 71302; telephone (318) 473-7751.

SUPPLEMENTARY INFORMATION: The environmental assessment of the federally assisted action indicates that the project will not cause significant local, regional, or national impacts on the environment. As a result of these findings, Kevin D. Norton, State Conservationist, has determined that preparation and review of an environmental impact statement is not needed for this project.

Denbury is proposing to construct a 24″ CO2 pipeline approximately 81.0 miles in length located within Issaquena, Warren, and Yazoo Counties, Mississippi and Madison and Richland Parishes, Louisiana. The proposed pipeline will transport CO2 to the Delhi Field for the purpose of tertiary oil recovery. The proposed 24″ CO2 pipeline will cross existing federal Wetland Reserve Program (WRP) easements held by the USDA-NRCS in Madison Parish, Louisiana and Warren County, Mississippi. The affected WRP properties in Louisiana are the Little Tensas Bayou Farm/Pilgrims Place and Charles Fondren WRPs. The affected WRP properties in Mississippi are the Willow Break, LLC and the M. James Chaney, Jr. WRP.

The Notice of Finding of No Significant Impact (FONSI) has been forwarded to the Environmental Protection Agency and to various federal, state, and local agencies and interested parties. A limited number of copies of the FONSI are available to fill single copy request at the above address. Basic data collected during the environmental assessment are on file and may be reviewed by contacting Kevin D. Norton.

No administrative action on implementation of the proposal will be taken until 30 days after the date of this publication in the Federal Register.

Kevin D. Norton,
State Conservationist.

[FR Doc. E8-22331 Filed 9-23-08; 8:45 am]

BILLING CODE 3410-16-P